FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than April 11, 2011.

A. Federal Reserve Bank of Minneapolis (Jacqueline G. King, Community Affairs Officer) 90 Hennepin Avenue, Minneapolis, Minnesota 55480-0291:

1. Gerald John Baack, individually, and in concert with Sherri Lynn Baack, both of Apple Valley, Minnesota; to acquire voting shares of Bridgewater Bancshares, Inc., and thereby indirectly acquire voting shares of Bridgewater Bank, both of Bloomington, Minnesota.

2. Najib G. Schlosstein, Arcadia, Wisconsin; to acquire voting shares of GEBSCO, and thereby indirectly acquire voting shares of Alliance Bank, both of Mondovi, Wisconsin.

In connection with the above application, Castlerock Museum, Inc., Alma, Wisconsin, as a member of the Schlosstein Family Group, has applied to retain voting shares of GEBSCO, and thereby indirectly retain voting shares of Alliance Bank, both of Mondovi, Wisconsin.

B. Federal Reserve Bank of Kansas City (Dennis Denney, Assistant Vice President) 1 Memorial Drive, Kansas City, Missouri 64198-0001:

1. James E. Landen, as trustee of the Mary M. Huerter Irrevocable Trust; the Megan L. Huerter Irrevocable Trust; The James V. Huerter III Irrevocable Trust; The Rebecca F. Huerter Irrevocable Trust; The Thomas L. Huerter Irrevocable Trust; The Mary C. Landen Irrevocable Trust; The Clarence L. Landen IV Irrevocable Trust; The Kelly A. Landen Irrevocable Trust; The Elizabeth L. Kerr Irrevocable Trust; The Jordan M. Kerr Irrevocable Trust; and The J. Michael Kerr Jr. Irrevocable Trust, all of Omaha, Nebraska; to retain voting shares of Security National Corporation, and thereby indirectly retain voting shares of Security National Bank of Omaha, both of Omaha, Nebraska.

Board of Governors of the Federal Reserve System, March 22, 2011.
Robert deV. Frierson,
Deputy Secretary of the Board.

[FR Doc. 2011-7059 Filed 3-24-11; 8:45 am]

BILLING CODE 6210-01-P